DEPARTMENT OF COMMERCE

Foreign-Trade Zones Board

[Docket 67-2011]

Foreign-Trade Zone 29—Louisville, KY, Application for Subzone; North American Stainless (Stainless Steel); Ghent, KY

An application has been submitted to the Foreign-Trade Zones Board (the Board) by the Louisville & Jefferson County Riverport Authority, grantee of FTZ 29, requesting special-purpose subzone status for the stainless steel mill of North American Stainless (NAS), located in Ghent, Kentucky. The application was submitted pursuant to the provisions of the Foreign-Trade Zones Act, as amended (19 U.S.C. 81a-81u), and the regulations of the Board (15 CFR part 400). It was formally filed on October 21, 2011.

The NAS facility (1,800 employees, 1,327 acres, 1.4 million metric ton melting capacity) is located at 6870 U.S. Highway 42 East, Ghent, Kentucky. The facility is used for the manufacturing of flat and long stainless steel products. Components and materials sourced from abroad (representing up to 30% of the value of the finished product) include: fluorospar, molybdenum oxide, ferromanganese, ferrosilicon, ferrosilicon manganese, charge chrome, ferrochrome, ferrochrome silicon, ferronickel, ferromolybdenum, ferroniobium, ferroboron, stainless steel scrap, semifinished iron or non-alloy steel products, semifinished stainless steel products, copper spent anodes, nickel, unwrought nickel alloys, aluminum, zinc, zinc alloys, manganese metal, titanium waste and scrap, unwrought molybdenum and unwrought titanium (duty rate ranges from duty-free to 15%). NAS has indicated that they will accept a restriction requiring all foreign status ferrosilicon, molybdenum and titanium (HTSUS 7202.21, 8102.94, 8108.20 and 8108.90) to be admitted to the proposed subzone in privileged foreign (PF) status (19 CFR 146.41).

FTZ procedures could exempt NAS from customs duty payments on the foreign components used in export production. The company anticipates that some 20-30 percent of the plant's shipments will be exported. On its domestic sales, NAS would be able to choose the duty rates during customs entry procedures that apply to finished and semifinished stainless steel products (duty-free) for the foreign inputs noted above. FTZ designation would further allow NAS to realize logistical benefits through the use of weekly customs entry procedures. Customs duties also could possibly be deferred or reduced on foreign status production equipment. The request indicates that the savings from FTZ procedures would help improve the plant's international competitiveness.

In accordance with the Board's regulations, Elizabeth Whiteman of the FTZ Staff is designated examiner to evaluate and analyze the facts and information presented in the application and case record and to report findings and recommendations to the Board.

Public comment is invited from interested parties. Submissions (original and 3 copies) shall be addressed to the Board's Executive Secretary at the address below. The closing period for their receipt is December 27, 2011. Rebuttal comments in response to material submitted during the foregoing period may be submitted during the subsequent 15-day period to January 10, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via http://www.trade.gov/ftz.

For further information, contact Elizabeth Whiteman at Elizabeth.Whiteman@trade.gov or (202) 482-0473.

Dated: October 21, 2011.
Andrew McGilvray,
Executive Secretary.

[FR Doc. 2011-27856 Filed 10-26-11; 8:45 am]

BILLING CODE P